DEPARTMENT OF AGRICULTURE

Animal and Plant Health Inspection Service

9 CFR Part 77

[Docket No. 04-068-2]

Tuberculosis in Cattle and Bison; State and Zone Designations; New Mexico

AGENCY: Animal and Plant Health Inspection Service, USDA.

ACTION: Correcting amendment.

SUMMARY: We are correcting an error in an interim rule that amended the bovine tuberculosis regulations regarding State and zone classifications. This interim rule was published in the Federal Register on July 22, 2005 (70 FR 42259-42261, Docket No. 04-068-1).

DATES: This correction is effective August 12, 2005. We invite you to comment on the interim rule (Docket No. 04-068-1), as corrected by this document. We will consider all comments that we receive by September 20, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 04-068-1, Regulatory Analysis and Development, PPD, APHIS, Station 3C71, 4700 River Road Unit 118, Riverdale, MD 20737-1238. Please state that your comment refers to Docket No. 04-068-1.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. M.J. Gilsdorf, Director, Ruminant Health Programs, National Center for Animal Health Programs, VS, APHIS, 4700 River Road Unit 43, Riverdale, MD 20737-1231; (301) 734-6954.

SUPPLEMENTARY INFORMATION: We published in the Federal Register on July 22, 2005 (70 FR 42259-42261, Docket No. 04-068-1), an interim rule that amended the bovine tuberculosis regulations (9 CFR part 77) by removing New Mexico from the list of modified accredited advanced States in § 77.9(a) and adding part of New Mexico to the list of modified accredited advanced zones in § 77.9(b) and the remainder of New Mexico to the list of accredited free zones in § 77.9(b).

There is one error in that document. In § 77.9, paragraph (a) lists the States which meet the criteria for modified accredited advanced States. When we set out the revised § 77.9(a), we inadvertently included California on the list of modified accredited advanced States. California was designated as an accredited free State in an interim rule published in the Federal Register on April 15, 2005 (70 FR 19877-19878, Docket No. 05-010-1). This document corrects that error by removing California from the list in § 77.9(a).

List of Subjects in 9 CFR Part 77

Animal diseases, Bison, Cattle, Reporting and recordkeeping requirements, Transportation, Tuberculosis.

Accordingly, 9 CFR part 77 is corrected by making the following correcting amendments:

PART 77—TUBERCULOSIS

1. The authority citation for part 77 continues to read as follows:

Authority: 7 U.S.C. 8301-8317; 7 CFR 2.22, 2.80, and 371.4.

2. In § 77.9, revise paragraph (a) to read as follows:

§ 77.9 Modified accredited advanced States or zones.

(a) The following are modified accredited advanced States: Texas.

* * * * *

Done in Washington, DC, this 8th day of August 2005.
Kevin Shea,
Acting Administrator, Animal and Plant Health Inspection Service.

[FR Doc. 05-16014 Filed 8-11-05; 8:45 am]

BILLING CODE 3410-34-P